DEPARTMENT OF THE INTERIOR

Office of the Secretary

Bureau of Indian Affairs, Office of Special Trustee for American Indians, Office of Trust Transition; Tribal Consultation of Indian Trust Asset Management

AGENCY: Office of the Secretary, Bureau of Indian Affairs, Office of the Special Trustee for American Indians, Office of Trust Transition, Interior.

ACTION: Notice of tribal consultation meetings; extension of comment period.

SUMMARY: The Office of the Secretary, the Bureau of Indian Affairs, the Office of the Special Trustee for American Indians, and the Office of Indian Trust Transition have been conducting consultation meetings with the public as noticed in the Federal Register publications of December 5, 2001, December 11, 2001, and January 31, 2002. In the Federal Register notice of December 5, 2001 (66 FR 234), the Department noted that all written comments must be received by February 15, 2002. This notice extends that comment period to February 28, 2002.

DATES: All written comments must be received by February 28, 2002.

ADDRESSES: Office of the Assistant Secretary—Indian Affairs, 1849 C Street, NW, MS 4140 MIB, Washington, DC 20240.

FOR FURTHER INFORMATION CONTACT: Wayne R. Smith, Deputy Assistant Secretary—Indian Affairs, 1849 C Street, NW, MS 4140 MIB, Washington, DC 20240 (202-208-7163).

SUPPLEMENTARY INFORMATION: The purpose of the consultation meetings is to involve affected and interested parties in the process of organizing the Department's trust asset management responsibility functions. The Department has determined that there is a need for dramatic change in the management of Indian trust assets. An independent consultant has analyzed important components of the Department's trust reform activities and made several recommendations, including the recommendation that the Department consolidate trust functions under a single entity. The Department has already had seven (7) tribal consultation meetings and has scheduled another one for Portland, Oregon, on February 14, 2002, to discuss the merits of this reorganization. Because of the overwhelming public response to this effort, the Department believes it prudent to extend the comment period to February 28, 2002. The Department may extend this comment period further by additional notice as other meetings may be scheduled. This extension will facilitate the maximum direct participation of all interested persons in this important Departmental process.

Dated: February 6, 2002.
J. Steven Griles,
Deputy Secretary.

[FR Doc. 02-3284 Filed 2-8-02; 8:45 am]

BILLING CODE 4310-02-M